DEPARTMENT OF EDUCATION

List of Borrowers Who Have Defaulted on Their Health Education Assistance Loans

AGENCY: Federal Student Aid, Department of Education.

ACTION: Notice.

SUMMARY: Federal Student Aid (FSA), as required by the Public Health Service Act (the Act), is publishing this list of Health Education Assistance Loan (HEAL) borrowers who have defaulted on their loans as of August 1, 2020. This information is also made available for use by organizations authorized by the Act.

FOR FURTHER INFORMATION CONTACT:

For Defaulted HEAL Borrowers with Account-Related Questions:

A borrower who is in default on a HEAL program loan and who has an account-related question should contact: HHS Program Support Center, Accounting Services, Debt Collection Center, Mailstop 10230B, 7700 Wisconsin Avenue, Suite 8-8110D, Bethesda, MD 20857. Telephone: (301) 492-4664.

For General HEAL Information:

For general HEAL program questions, contact the HEAL program team: Telephone: (844) 509-8957. Email: HEAL@ed.gov.

For Organizations Requesting HEAL Defaulted Borrower Information or Confirmation under Section 709(c)(2) of the Act (42 U.S.C. 292h(c)(2)):

To request information related to a HEAL defaulted borrower or confirmation of the borrower's default status, contact the HEAL program team: Telephone: (844) 509-8957. Email: HEAL@ed.gov.

If you use a telecommunications device for the deaf (TDD) or a text telephone (TTY), call the Federal Relay Service, toll free, at 1-800-877-8339.

SUPPLEMENTARY INFORMATION: From fiscal year 1978 through fiscal year 1998, the HEAL program insured loans made by participating lenders to eligible graduate students in schools of medicine, osteopathy, dentistry, veterinary medicine, optometry, podiatry, public health, pharmacy, and chiropractic, and in programs in health administration and clinical psychology. Authorization for new HEAL program loans was discontinued on September 30, 1998.

Under division H, title V, section 525 of the Consolidated Appropriations Act, 2014 (Pub. L. 113-76), and title VII, part A, subpart I of the Public Health Service Act (42 U.S.C. Chapter 6A), the authority to administer the HEAL program, including servicing, collecting, and enforcing any loans made under the HEAL program that remain outstanding, was transferred from the Secretary of Health and Human Services to the Secretary of Education effective July 1, 2014. The Act and a system of records notice published in the Federal Register on August 14, 2018 (83 FR 40264), permits the publishing of the list of HEAL borrowers who have defaulted on their loans.

Information on the HEAL program is available on the Department of Education's Information for Financial Aid Professionals (IFAP) website at: www.ifap.ed.gov.

List of Defaulters: The following list provides the names and other information of borrowers who have defaulted on their HEAL program loans as of August 1, 2020. Specifically, the list includes the borrower's name, last known city and State of residence, area of practice, and the total amount due on the HEAL debt. The Department publishes this information in order to correctly identify the person in default and to provide relevant information to the authorized recipients of this information, such as State licensing boards and hospitals.

In accordance with section 709(c)(2) of the Act (42 U.S.C. 292h(c)(2)), FSA will provide the information included in this Federal Register notice and updated information on the borrower's default status to relevant Federal agencies and to schools, school associations, professional and specialty associations, State licensing boards, hospitals with which listed borrowers may be associated, and other relevant organizations, upon written request to the email address listed under FOR FURTHER INFORMATION CONTACT. Any written request must be on the letterhead of the organization making the request.

Accessible Format: Individuals with disabilities can obtain this document in an accessible format (e.g., braille, large print, audiotape, or compact disc) by contacting the HEAL program team: Telephone: (844) 509-8957. Email: HEAL@ed.gov.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 20 U.S.C. 1070b et seq. and 1087aa et seq.; 42 U.S.C. 2751 et seq. and 42 U.S.C. 292h(c)(1).

Mark A. Brown,
Chief Operating Officer, Federal Student Aid.

Health Education Assistance Loan Defaulters as of August 1, 2020
Last name | First name | MI | City | State | Discipline | Date reported | Amount due
Abe | Gregory | N | Tujunga | CA | PHA | 1/21/1998 | $75,209
Ackley | Brainard | L | Kitty Hawk | NC | CHM | 1/21/1998 | 6,449
Acosta-Delgado | Feliberto | D | Bronx | NY | DEN | 3/1/1999 | 96,773
Adams | Stephen |  | League City | TX | CHM | 3/1/1999 | 91,774
Adeli | Mojgan | E | Los Angeles | CA | DEN | 3/1/1999 | 151,397
Adkins | Margo | M | Austin | TX | MED | 1/21/1998 | 969,306
Aiken | Richard | F | Gardena | CA | CHM | 8/21/2015 | 92,733
Al-Amin | Ihsaan |  | Ringgold | GA | MED | 11/2/2000 | 103,658
Alana | Manuela | L | Pharr | TX | POD | 9/24/2014 | 244,818
Alden | Thomas | E | Cambridge | MA | CHM | 11/2/2000 | 134,994
Allen | Lawrence | P | Temecula | CA | CHM | 7/31/1998 | 366,716
Alston | Linda | D | Philadelphia | PA | OST | 5/21/2019 | 195,400
Alter | Dale | N | Redding | CA | MED | 2/5/2009 | 447,873
Anaya | Enid | L | South Setauket | NY | MED | 5/21/2019 | 26,655
Anderson | Angela | J | Torrance | CA | MED | 1/21/1998 | 188,572
Anderson | Gwendolyn |  | Lansdowne | PA | POD | 1/21/1998 | 288,132
Anyaji | George | I | San Diego | CA | MED | 4/25/2014 | 121,825
Aquino | Sayira | I | Homestead | FL | POD | 8/15/2019 | 83,575
Armstrong | Daniel | J | San Francisco | CA | CHM | 5/17/1999 | 167,355
Arnesen | Douglas | W | Atascadero | CA | CHM | 5/17/1999 | 58,329
Azcueta | Justina | Q | San Jose | CA | DEN | 5/7/2013 | 170,277
Bacon | Pamela | M | Hollister | MO | DEN | 5/17/1999 | 260,320
Baez | Ana | V | Somerset | NJ | DEN | 5/14/2002 | 150,312
Bahadue | George | P | Matawan | NJ | OST | 3/1/1999 | 274,187
Bailey | David | W | San Bernadino | CA | MED | 3/25/2019 | 49,126
Baird | Curtis | J | Mount Airy | MD | MED | 5/14/2002 | 113,080
Baker | Walter | A | Mill Valley | CA | DEN | 5/11/2005 | 487,968
Baker | Gale |  | Olympia Flds | IL | DEN | 5/17/2001 | 80,691
Ball JR | Thomas |  | Detroit | MI | POD | 11/12/2013 | 111,481
Baranco | Patricia | E | Lake Charles | LA | DEN | 3/1/1999 | 909,599
Baratta | George |  | Danville | CA | CHM | 11/2/2000 | 31,819
Barber | Mildred | L | Washington | DC | MED | 11/14/2007 | 151,852
Barile | Joseph | V | Valatie | NY | CHM | 3/25/2019 | 12,874
Barnes | De Elward | F | Los Angeles | CA | CHM | 11/10/2004 | 58,170
Barnett | Brian | D | Pearland | TX | CHM | 1/21/1998 | 78,261
Barney | Thomas | W | Sugar Grove | IL | CHM | 8/22/2017 | 48,880
Barrows | Joni |  | Newmarket | NH | DEN | 5/19/2009 | 714,385
Bayles | Jay | C | Westlake Village | CA | CHM | 8/11/2005 | 117,070
Beckford | Audrey | L | East Orange | NJ | OST | 2/15/2002 | 74,318
Bennett | Kathy |  | Caldwell | ID | CHM | 8/12/2016 | 83,325
Bentley JR | James | W | Van Nuys | CA | DEN | 8/12/2016 | 26,088
Bergstrom | Eric | R | Anaheim Hills | CA | CHM | 5/7/2013 | 33,412
Bertin | Michael | W | West Bloomfield | MI | DEN | 1/21/1998 | 6,434
Bertsch | Dar | A | Santa Cruz | CA | CHM | 4/25/2014 | 43,535
Bettis | Gail | M | Bellrose | NY | DEN | 1/21/1998 | 103,131
Biosah-Coleman | Ada | N | Houston | TX | PUB | 9/24/2014 | 51,712
Bisbocci | Brady | M | Belmont | OH | CHM | 11/14/2019 | 16,397
Bittenbender | Robert | G | Clarks Summit | PA | CHM | 11/7/2001 | 44,649
Bland JR | Henry | N | Jacksonville | FL | DEN | 5/14/2002 | 250,274
Blase | Richard | M | Worcester | MA | DEN | 1/21/1998 | 501,213
Bolton | Paul | K | Kansas City | MO | CHM | 11/2/2000 | 136,488
Booher | Janette | L | South San Francisco | CA | CHM | 2/1/2001 | 65,972
Boshes | Perri | D | Deerfield Beach | FL | CHM | 1/21/1998 | 84,799
Bowman | Jeffrey | S | Salt Lake City | UT | CHM | 1/21/1998 | 23,903
Boyd | Brian | D | Bellingham | WA | CHM | 2/18/2020 | 4,054
Brandt | Susan | J | Winston Salem | NC | MED | 7/6/2012 | 101,043
Brantley | Carl | E | Houston | TX | DEN | 9/24/2014 | 45,621
Breazeale | Michael | E | Marietta | GA | CHM | 1/21/1998 | 332,016
Brodie | Douglas | K | San Antonio | TX | DEN | 1/21/1998 | 405,665
Brodsky | Barbara | L | San Francisco | CA | CHM | 1/21/1998 | 22,616
Bronk | Brian | R | Santa Monica | CA | CHM | 1/21/1998 | 76,250
Broussard | Charlotte | R | Carrollton | TX | CHM | 11/2/2000 | 17,292
Broussard | Linda | C | Los Angeles | CA | CHM | 2/10/2011 | 307
Brown | Darla | J | Highlands | TX | CHM | 1/21/1998 | 497,716
Brown | Jeffrey | T | Gainesville | GA | CHM | 11/7/2001 | 33,172
Brown-Collins | Jannas | E | Columbia | SC | DEN | 5/31/2018 | 596,289
Bruyning | Edwin | F | Miami | FL | DEN | 1/21/1998 | 359,357
Buchta | Joseph | F | Bradenton | FL | DEN | 7/26/2018 | 35,853
Buchwald-Heilig | Bonnie | I | Tucson | AZ | CHM | 1/21/1998 | 40,251
Buford | John | I | Philadelphia | PA | OST | 5/17/2001 | 64,233
Bui | Khai | T | Springfield | MA | DEN | 8/16/2006 | 91,273
Bulen | Jerry | L | Brandon | FL | OST | 2/28/2005 | 187,429
Bunce | Christine | T | Sonoma | CA | CPY | 2/1/2001 | 203,401
Caballero | Jorge | R | Los Angeles | CA | CHM | 1/21/1998 | 294,613
Cabrera | Cecilia | I | Pembroke Pines | FL | OPT | 2/5/2009 | 20,199
Caldwell | William | G | Concord | MA | DEN | 5/14/2002 | 121,857
Calix | Raul | O | Lennox | CA | CHM | 5/16/2011 | 11,673
Campanale | Paul | R | Jacksonville | FL | CHM | 1/21/1998 | 96,130
Canillas | Gregorio | L | Long Beach | CA | CPY | 5/16/2011 | 78,451
Caporaso | Nicholas | G | West Liberty | OH | CHM | 2/1/2001 | 32,479
Caputo | Francesco | J | Plainview | NY | CHM | 7/6/2012 | 271,631
Carlos | Lester | B | San Leandro | CA | CHM | 8/5/2004 | 73,081
Carney | Timothy | M | East Patchogue | NY | CHM | 11/26/2012 | 37,320
Carpenter | Richard | P | Saginaw | MI | CHM | 1/21/1998 | 38,912
Carrie | Thomas | T | Mount Vernon | NY | MED | 3/1/1999 | 374,500
Carthen | Michael |  | Brooklyn | NY | POD | 1/21/1998 | 401,700
Castaline | Perren | V | Canyon Country | CA | CHM | 8/11/2005 | 143,822
Castellanos | Loretta | M | Key Biscayne | FL | DEN | 2/3/2014 | 285,745
Castro | Henry | G | Corpus Christi | TX | CHM | 5/20/2004 | 59,578
Caulkins | Robert | M | Shrewsbury | MA | MED | 8/5/2004 | 507,575
Cha | Chris | S | Garden Grove | CA | DEN | 11/12/1999 | 358,947
Chalgujian | Hilda | A | Palm Desert | CA | CPY | 5/16/2011 | 153,618
Chen | Syng-Fu | F | Pls Vrds Pnsl | CA | MED | 5/20/2004 | 57,819
Cheney | Julian | L | Reseda | CA | CHM | 1/21/1998 | 9,631
Choi | Seong | Y | Diamond Bar | CA | DEN | 3/1/1999 | 170,092
Christian | Roy | P | Saratoga | CA | DEN | 7/6/2012 | 62,214
Christiansen | John | C | Pleasant Grove | UT | CHM | 5/19/2009 | 82,188
Clark | Garth | A | Humble | TX | MED | 8/10/2001 | 165,063
Cleere | Carrol | E | Las Vegas | NV | CHM | 1/21/1998 | 230,612
Clifton | Rhea | S | Dallas | TX | CHM | 8/5/2004 | 8,533
Cline | Sherri | L | Sylmar | CA | OST | 1/21/1998 | 9,643
Clouse | William | J | San Antonio | TX | POD | 3/1/1999 | 233,731
Coate | Linda |  | Reno | NV | CHM | 11/9/2010 | 192,941
Cobrin | Bettina | B | Marina Del Rey | CA | CPY | 1/21/1998 | 284,179
Coleman JR | Harold | J | Tacoma | WA | DEN | 5/16/2011 | 291,279
Collier | George | R | Ponderay | ID | DEN | 1/21/1998 | 269,584
Collins JR | Gail | W | Fullerton | CA | OPT | 3/1/1999 | 33,424
Connaughton | Edward | M | Hermosa Beach | CA | CHM | 8/12/2016 | 39,198
Connor | Kenneth | J | Newport Beach | CA | CHM | 11/7/2001 | 85,776
Cook | Karen |  | Redwood City | CA | CHM | 7/6/2012 | 519,322
Cook | Ian | K | Christiansted | VI | POD | 2/8/2017 | 196,640
Cooke | Courtney | W | Van Nuys | CA | CHM | 5/18/2010 | 47,272
Coombs | Timothy | R | Anaheim | CA | CHM | 5/15/2000 | 124,230
Cooney | Carey | E | Eugene | OR | DEN | 1/21/1998 | 43,884
Coonts | Terry | A | Eldorado Springs | MO | CHM | 2/17/2000 | 13,564
Cooper | April | D | Hazel Crest | IL | MED | 1/21/1998 | 520,178
Cooper | Carol | A | Keizer | OR | CHM | 3/25/2019 | 216,102
Corcoran | Jamie | M | Bronx | NY | DEN | 4/24/1998 | 568,426
Cothran | Lonnie | A | Shady Point | OK | CHM | 11/12/1999 | 252,359
Cox | Michael | A | Oakland | CA | CHM | 11/15/2005 | 27,842
Coyle | Michele | M | Mission Viejo | CA | CPY | 5/12/2020 | 302,048
Cummins | David | F | St Michael Barbados | FC | DEN | 1/21/1998 | 164,573
Curtin | Michael | M | Fairfax | CA | CHM | 1/21/1998 | 36,668
Cutts | David | P | Temecula | CA | DEN | 1/21/1998 | 182,597
Daniels | Peter | J | San Jose | CA | CHM | 2/20/2007 | 99,539
Darrow | Victoria | L | Boca Raton | FL | CHM | 11/26/2012 | 144,946
Davalos | Steven | M | Carmel Valley | CA | CHM | 8/1/2000 | 53,711
Davidson | Blake | L | Richardson | TX | CHM | 8/5/2004 | 48,612
Davitiashvili | Nodari |  | Rego Park | NY | DEN | 11/12/2013 | 154,909
Dawe | Michael | E | Fort Worth | TX | OPT | 2/18/2020 | 17,984
De Jesus-Miranda | Luis | A | Fajardo | PR | OPT | 5/14/2002 | 104,003
Deck | Robert | E | Crowley | TX | CHM | 2/14/2013 | 59,801
Deleonardis | Michael | S | Houston | TX | MED | 8/10/2001 | 122,310
Demaria | Lynn | A | Albany | NY | MED | 2/2/2018 | 87,065
Dennis | Gwenda | B | Aliso Viejo | CA | MED | 5/14/2016 | 136,728
Densmore | Robert | D | Tampa | FL | CHM | 8/17/2007 | 51,248
Derbonne | John | R | Lake Jackson | TX | CHM | 9/24/2014 | 45,706
Desai | Nemish | J | West Bloomfield | MI | DEN | 5/21/2019 | 116,285
Dewitt | Eldon | L | Fort Pierce | FL | CHM | 2/5/2009 | 144,565
Dhaliwal | Emaline | K | Riverside | CA | CHM | 1/21/1998 | 12,962
Diaz | James | A | Redwood Valley | CA | CHM | 8/22/2017 | 16,521
Diesen | James | D | Orange Park | FL | CHM | 1/21/1998 | 454,576
Difiore JR | William | E | Fountain Valley | CA | CHM | 1/21/1998 | 77,138
Dinh | Michael | K | McAllen | TX | CHM | 9/24/2014 | 11,814
Ditroia | Frederick |  | Warrington | PA | DEN | 1/21/1998 | 66,874
Divanbeigi | Farah | Z | Las Vegas | NV | DEN | 3/25/2019 | 187,176
Dominic | Anthony | J | Manasquan | NJ | MED | 2/15/2002 | 55,310
Dominicis | Beth | A | Lake Arrowhead | CA | CHM | 2/1/2001 | 28,271
Doom | Randolph | H | Murrells Inlet | SC | CHM | 8/17/2012 | 166,988
Dorian | Saro | S | Glendale | CA | CHM | 11/7/2001 | 35,492
Dructor | James | D | Pittsburgh | PA | MED | 8/10/2001 | 72,275
Duarte | Leonardo |  | Jackson | NJ | CHM | 11/14/2019 | 40,544
Dudley | Raynold | R | Houston | TX | PHA | 1/21/1998 | 125,811
Dungan | Kim | V | Fort Lauderdale | FL | CHM | 11/14/2007 | 137,275
Dupuis | Kenneth | J | Orono | ME | CHM | 5/14/2002 | 203,102
Durham | Ricky | L | Houston | TX | CHM | 1/21/1998 | 249,338
Dwight | Benton | J | Albuquerque | NM | PHA | 7/26/2018 | 17,381
Dykeman | Peter | J | Hawthorne | CA | CHM | 1/21/1998 | 143,653
Elbayar | Nader | K | Port Washington | NY | POD | 1/21/1998 | 163,422
Elder | Terry | M | Glendale Heights | IL | CHM | 8/1/2000 | 273,435
Eli | Desiree | D | Soquel | CA | CHM | 1/21/1998 | 79,577
Ellis | Mark | S | Miami | FL | POD | 2/17/2000 | 146,088
Emerson | Edwin | A | Selden | NY | CHM | 1/21/1998 | 254,862
Engel | Rob | L | Garden Grove | CA | CHM | 2/17/2000 | 31,869
Ensminger | Aletha | M | Carmichael | CA | DEN | 11/9/2010 | 100,523
Epstein | Judy | J | Carlsbad | CA | CPY | 2/17/2000 | 164,300
Eslao | Caesar | G | Carson | CA | DEN | 1/21/1998 | 161,603
Esmailbeigui | Babak |  | Pacific Palisades | CA | DEN | 9/24/2014 | 9,910
Etienne | Fernande |  | West Palm Beach | FL | POD | 5/11/2006 | 189,698
Etumnu | Patrick | C | Houston | TX | CHM | 9/24/2014 | 31,222
Evans | William | L | Spring | TX | CHM | 9/24/2014 | 106,107
Fabricant | Michael | J | Fort Lauderdale | FL | CHM | 1/21/1998 | 269,489
Fair | David | F | Knoxville | TN | CHM | 3/1/1999 | 149,703
Falkinburg | Rory | D | Point Pleasant Boro | NJ | CHM | 7/26/2018 | 94,217
Fallman | James | M | Alhambra | CA | CHM | 5/15/2000 | 50,335
Falth-Vanvollenhoven | Annika | M | San Francisco | CA | MED | 3/1/1999 | 149,119
Fanizzi | Thomas |  | Brightwaters | NY | POD | 4/24/1998 | 525,277
Farris | Farral | W | Pagosa Springs | CO | CHM | 5/15/2000 | 69,590
Fayazfar | Mitra |  | Oak Park | CA | CHM | 11/7/2001 | 30,139
Feinman | Brian | M | Tampa | FL | POD | 2/20/2007 | 847,719
Fenton | Mark | A | Van Nuys | CA | CHM | 5/11/2006 | 101,799
Fiore | James | P | Santa Ana | CA | CHM | 8/10/2001 | 70,454
Fletcher | Leonard | G | Corona | CA | MED | 8/21/2015 | 73,551
Flores | Otto | O | Antario | CA | CHM | 1/21/1998 | 187,774
Fluck | Dennis | W | New Tripoli | PA | OST | 10/30/2003 | 317,675
Flunker | Edward | J | Houston | TX | CHM | 8/12/2016 | 13,664
Ford | Leslie | E | Keller | TX | CHM | 8/15/2019 | 15,507
Ford | Thomas | M | Yorba Linda | CA | CHM | 2/1/2001 | 4,877
Formaker | James | W | West Hollywood | CA | DEN | 1/21/1998 | 114,792
Fox | Carl | A | Dana Point | CA | CHM | 5/11/2005 | 115,019
Franco | Michael | G | Glendale | CA | MED | 3/3/2015 | 221,517
Francus | Irwin | N | East Northport | NY | CHM | 4/24/1998 | 497,321
Franks | Michael | A | Wharton | TX | CHM | 9/24/2014 | 29,267
Freeze | Kenneth | J | Amarillo | TX | CHM | 8/15/2019 | 161,579
Fridrick | Tim | P | Las Vegas | NV | CHM | 1/21/1998 | 66,250
Friedman | Marc | H | Huntington Beach | CA | POD | 8/12/2016 | 56,240
Fulton | William | C | Oakland | CA | CPY | 11/7/2001 | 83,021
Funcia | Ana | T | Miami | FL | DEN | 2/1/2001 | 213,417
Gaber | Alan | M | Levittown | PA | DEN | 5/14/2002 | 61,841
Gain | John | J | Wilmington | DE | MED | 5/2/2003 | 375,826
Galliher | Jack | T | Wimberley | TX | OPT | 11/7/2001 | 3,638
Gallucci | Don | A | Malden | MA | DEN | 3/1/1999 | 159,249
Garner | Jeffrey | L | Cedar Rapids | IA | OPT | 3/25/2019 | 70,242
Gasso | Joaquin | A | Hollywood | FL | CHM | 1/21/1998 | 255,395
Gaydos | Richard | F | Fontana | CA | CHM | 11/7/2001 | 63,956
Gdula | William | J | Brookline | MA | MED | 5/16/2011 | 20,507
Genna | Stephen | A | Bayville | NY | DEN | 7/26/2018 | 43,149
Ghalbi | Abdollnasser |  | Santa Ana | CA | CHM | 5/14/2002 | 40,649
Gifford | Craig | P | Keller | TX | DEN | 2/17/2000 | 119,614
Gilyot | Glenn | D | New Orleans | LA | DEN | 2/15/2002 | 316,122
Giorgio | Stephen | R | Middle Island | NY | CHM | 7/26/2018 | 27,918
Gipson | Bruce | C | Easton | PA | CHM | 5/14/2016 | 17,241
Giventer | Alex |  | Los Angeles | CA | CHM | 5/16/2011 | 71,650
Gloshinski | Laura | E | Portland | PA | CHM | 1/21/1998 | 148,493
Gloskowski | Aaron |  | Phoenix | AZ | OST | 11/14/2019 | 10,300
Goins | Rondy | D | Detroit | MI | POD | 3/25/2019 | 335,815
Goldbeck | Donald | E | Woodland Hills | CA | CHM | 8/12/2016 | 105,551
Gomes | Steven | P | Santa Rosa | CA | CHM | 4/24/1998 | 53,774
Gomez | Meneleo | P | Glendale | CA | DEN | 5/15/2000 | 299,060
Gonzalez | Maria | E | East Rockaway | NY | DEN | 5/15/2000 | 73,757
Goodman | William | D | Thorp | WI | DEN | 1/21/1998 | 37,744
Goodwin | Randall | J | Satanta | KS | CHM | 7/6/2012 | 111,034
Gosa-Kersee | Angela | J | Chicago | IL | DEN | 3/1/1999 | 305,609
Gottschling | Carl | F | Cleveland | OH | MED | 11/7/2001 | 163,650
Grant | Terry | E | Hempstead | NY | DEN | 2/1/2001 | 83,374
Gray | David | M | San Francisco | CA | POD | 3/2/2004 | 72,329
Green JR | Edwin | A | Brownwood | TX | MED | 12/11/2018 | 60,585
Greeno | Vincent | A | Bolton | MA | CHM | 2/28/2005 | 63,172
Greeson-Cargioli | Leisa | A | Noblesville | IN | CHM | 7/26/2018 | 40,155
Gregory | Thomas | M | Brentwood | NY | CHM | 8/22/2017 | 337,397
Gregory | Todd | A | Pismo Beach | CA | CHM | 1/21/1998 | 57,119
Gregson | Randall |  | Kailua | HI | CHM | 8/22/2017 | 104,967
Grenier | Paul | S | Viroqua | WI | CHM | 8/9/2010 | 48,429
Grob-Mick | Renee | J | Dover | DE | MED | 5/31/2018 | 42,570
Grossman | Brian | W | Tulra | CA | CPY | 8/12/2016 | 93,062
Gulas | Carl | M | Los Gatos | CA | CHM | 11/18/2011 | 42,434
Guyer | Larry | G | Santa Rosa | CA | CHM | 11/7/2001 | 43,998
Hahn | Peter | S | Placentia | CA | CHM | 1/21/1998 | 44,313
Haines | Steven | M | Jackson | NJ | CHM | 3/1/1999 | 61,158
Hall | Pamela | A | Miami Gardens | FL | CPY | 8/17/2007 | 211,814
Hamilton | Cynthia | R | Chino Hills | CA | MED | 5/16/2011 | 43,067
Hampton | Jubal |  | Long Beach | CA | POD | 11/12/1999 | 48,558
Hankins | Dean | G | Anaheim | CA | CHM | 8/12/2016 | 97,827
Hankins | Douglas | A | Anaheim | CA | CHM | 8/22/2017 | 62,511
Hansen | Kristen | T | Washington | UT | CHM | 2/6/2003 | 115,709
Harp | Richard | B | Hacienda Heights | CA | CHM | 8/10/2011 | 25,551
Harris | Conrad | W | Lanham | MD | DEN | 1/21/1998 | 141,977
Harris | Sabrina | D | San Antonio | TX | MED | 12/11/2018 | 168,534
Harris | Darryl | C | Atlanta | GA | MED | 11/14/2019 | 254,879
Harrison | Rodney | B | Claremont | CA | DEN | 5/19/2009 | 477,098
Hasley | Steven | J | Rock Island | IL | CHM | 2/28/2005 | 78,246
Hassid | Sharona | H | Kings Point | NY | DEN | 7/26/2018 | 28,406
Hatfield | Brian | L | Brentwood | CA | CHM | 1/21/1998 | 64,724
Haygood | Regina | J | Brooklyn | NY | POD | 4/24/1998 | 198,916
Hazelwood III | Harry | H | Daytona Beach | NJ | PUB | 3/1/1999 | 314,684
Heckler | Rodney | R | Wheaton | IL | CHM | 11/15/2005 | 25,868
Hempsey | William | C | North Hollywood | CA | CHM | 1/21/1998 | 120,396
Henderson | Charles | A | Baltimore | MD | POD | 8/22/2017 | 46,689
Hennell-Larue | Renata | A | Mapleton | OR | CHM | 9/24/2014 | 44,453
Hernandez | Orestes | M | Los Angeles | CA | CHM | 1/21/1998 | 96,005
Hernandez | Agapito |  | McAllen | TX | CHM | 11/7/2001 | 203,093
Herrera | Diego | F | Long Island City | NY | DEN | 8/5/1999 | 347,175
Hibbert | Harold | H | Mountain View | CA | MED | 11/2/2000 | 30,549
Ho | Wook |  | Los Angeles | CA | DEN | 3/1/1999 | 61,494
Hoang | Dat | T | Anaheim | CA | MED | 8/12/2016 | 73,422
Hobowsky | Martin | R | South Charleston | OH | OST | 11/9/2010 | 267,265
Hoehn | James | D | Thousand Oaks | CA | DEN | 1/21/1998 | 83,579
Hoffman | Stuart |  | Venice | CA | CHM | 8/12/2016 | 23,861
Hollingsworth | Derek | J | Kalispell | MT | OST | 2/18/2020 | 60,017
Holt | Kenneth | G | Riverside | CA | CHM | 1/21/1998 | 112,418
Holzer | Richard | M | Glendale | AZ | CHM | 8/17/2007 | 170,722
Hopkins | Keith | T | Kissimmee | FL | CHM | 1/21/1998 | 13,908
Horsley | Ronald | G | Yulee | FL | CHM | 1/21/1998 | 91,544
Hough JR | Reginio | T | Lancaster | CA | CHM | 8/1/2000 | 34,812
Howell | Ralph | G | Clovis | CA | CHM | 11/7/2001 | 255,760
Hungerford | Richard | D | Portola | CA | CHM | 1/21/1998 | 94,260
Hunt | Richard | D | Pasadena | CA | CHM | 2/15/2002 | 152,882
Hunter | Donald | E | Fairborn | OH | CHM | 5/19/2009 | 77,733
Hush | George | G | Rose City | MI | CHM | 1/21/1998 | 110,643
Ichiuji | Arnold | T | Salinas | CA | DEN | 8/10/2001 | 112,597
Iliou | Claude | B | Punta Gorda | FL | MED | 8/16/2006 | 26,352
Ionova-Zalivchy | Irina | I | Brooklyn | NY | DEN | 7/26/2018 | 68,384
Iqal | Robert | S | Claremont | CA | PHA | 1/21/1998 | 12,224
Ito | Stephen | M | Menifee | CA | CHM | 4/24/1998 | 159,556
Jackson | Harold | O | Atlanta | GA | DEN | 5/16/2011 | 26,115
Jackson | Francesca | A | San Francisco | CA | CHM | 4/24/1998 | 97,136
Jacob-France | Elizabeth |  | St Petersburg | FL | CHM | 2/10/2011 | 72,974
Jaimes | Laura |  | Pico Rivera | CA | MED | 7/26/2018 | 9,410
Jansson | Susanne | E | Westhampton Beach | NY | GHA | 1/21/1998 | 127,532
Jeffcoat | Lori | M | Vallejo | CA | CHM | 10/30/2003 | 38,054
Jennifer | Jai |  | Oakland | CA | MED | 7/6/2012 | 62,263
Jernigan | Sherry | S | Land O' Lakes | FL | OST | 3/25/2019 | 167,458
Jewett | Charles | D | Portsmouth | OH | CHM | 1/21/1998 | 110,045
Joergens JR | Donald | W | Staten Island | NY | CHM | 1/21/1998 | 60,946
Johnson | John | B | Pasadena | TX | CHM | 8/12/2016 | 17,342
Johnson | Steven | R | Hillsboro | TN | CHM | 8/1/2000 | 163,347
Johnson | Anthony |  | Detroit | MI | MED | 1/21/1998 | 11,714
Johnson | Gary | M | Burbank | CA | CHM | 4/24/1998 | 100,000
Johnson | Eric | D | Folsom | CA | CHM | 1/21/1998 | 402,509
Kahan | Robert | M | Mission Viejo | CA | CHM | 1/21/1998 | 80,836
Kamel | Luca |  | Canyon Country | CA | MED | 8/12/2016 | 248,093
Kantro | Scott | R | New York | NY | POD | 8/16/2006 | 449,219
Katz | Steven | M | Sherman Oaks | CA | CHM | 8/10/2001 | 211,460
Kaufmann | Todd | S | Corte Madera | CA | CHM | 8/5/1999 | 148,434
Kea | Rattana | D | Highland | CA | DEN | 11/7/2001 | 222,855
Keeler-Jones | Dawn | M | Port Saint Lucie | FL | CHM | 5/14/2002 | 120,728
Keenan | John | M | Watertown | NY | CHM | 2/5/2009 | 52,390
Kelly-Soluri | Laura |  | Farmingdale | NY | POD | 5/17/1999 | 272,003
Kempis | Richard | A | Santa Clara | CA | DEN | 2/17/2000 | 106,833
Kessler | Bill | R | Fountain Valley | CA | CHM | 8/10/2011 | 39,571
Khalsa | Har Hari | S | Beverly Hills | CA | CHM | 8/10/2011 | 68,325
Khalsa | Gururakha | S | Springfield | VA | CHM | 7/31/1998 | 151,337
Khan | Tariq | A | San Leandro | CA | DEN | 7/6/2012 | 62,544
Kim | Won Kak |  | Torrance | CA | CHM | 8/12/2016 | 105,518
King | Susan | M | Apache Junction | AZ | CHM | 9/24/2014 | 188,383
King | James | H | Washington | DC | DEN | 1/21/1998 | 50,209
Kirkpatrick | Ira | P | Hurst | TX | CHM | 7/26/2018 | 215,116
Kiss | Kathleen | M | Blue Point | NY | CHM | 1/21/1998 | 139,018
Klapper | Gerald | P | Hollywood | FL | POD | 2/11/2008 | 56,305
Klejnot | Timothy | A | Marietta | GA | CHM | 1/21/1998 | 236,329
Knight | Patricia | A | Bayport | NY | CPY | 1/21/1998 | 99,193
Ko | Joo | H | Marina | CA | CHM | 4/25/2014 | 20,374
Koukeh-Sackett | F | M | San Bernardino | CA | CHM | 1/21/1998 | 160,575
Kowalski | Brian | A | Irvine | CA | CHM | 8/21/2015 | 29,404
Kralj | Mladen | M | Chicago | IL | DEN | 4/24/1998 | 638,350
Krichevsky | Rita | A | Newtown | PA | MED | 2/2/2018 | 149,906
Krystosik | James | D | Streetsboro | OH | CHM | 11/9/2006 | 262,208
Kunen | Frederick | J | Miami | FL | MED | 3/1/1999 | 205,124
Kyprie | Warren |  | Boca Raton | FL | CPY | 2/14/2012 | 80,955
Lafleur | Allen | R | Hull | MA | CHM | 3/1/1999 | 477,044
Lamb | Robert | D | Portland | OR | CHM | 1/21/1998 | 204,019
Lampley | Joseph | C | Hamlin | TX | OST | 3/25/2019 | 167,254
Lampman | Chuck | D | Sylmar | CA | CHM | 1/21/1998 | 276,260
Lancaster | Barry | D | Marietta | GA | CHM | 1/21/1998 | 141,015
Landou | Lissa | S | Belleville | NJ | CHM | 5/14/2002 | 221,990
Lane | Craig | R | Baltimore | MD | POD | 3/25/2019 | 333,199
Langham | Mary | L | Talkeetna | AK | OST | 5/19/2009 | 589,068
Lauffer | Mark | A | Mineral Point | PA | CHM | 5/16/2011 | 90,721
Lawton | Michael | D | Riverside | CA | MED | 11/12/1999 | 250,192
Lee | Steve | Y | Livingston | NJ | DEN | 8/10/2001 | 97,748
Lent | Rosella | M | Nahant | MA | CHM | 8/11/2005 | 240,618
Leonor | Lillian |  | Riverside | CA | DEN | 8/10/2011 | 50,120
Leshinger | Craig | L | Bayport | NY | DEN | 3/25/2019 | 379
Lester | Robert | C | Waxahachie | TX | CHM | 2/17/2000 | 61,941
Leung | Leo | S | Woodside | NY | CHM | 1/21/1998 | 244,156
Levin | Nancy | E | Palm Beach Gardens | FL | CHM | 1/21/1998 | 256,516
Lewis | Richard | C | Colorado Springs | CO | CHM | 8/17/2012 | 23,744
Light | David | N | Winter Garden | FL | DEN | 2/28/2005 | 136,096
Lim | Jong | S | Elmhurst | NY | DEN | 11/12/2013 | 155,518
Lippay | Ronald | W | Fresno | CA | CHM | 10/30/2003 | 78,714
Lipschutz | Robert | B | Philadelphia | PA | POD | 2/1/2006 | 150,657
Little | Carlton | E | Niles | IL | MED | 11/12/2013 | 323,806
Littleton | Charles | R | Edmond | OK | DEN | 7/31/1998 | 1,155
Lodwig | Michael | J | Castro Valley | CA | CHM | 1/21/1998 | 57,289
Lopez | Luis |  | Cathedral City | CA | CHM | 5/7/2013 | 229,599
Lottie | Mark | E | Covina | CA | CHM | 8/21/2015 | 119,914
Lowry-Brooks | Paulette | M | Summerville | SC | CHM | 1/21/1998 | 231,655
Lucero | Lucky | E | San Bernardino | CA | DEN | 4/25/2014 | 80,827
Lunceford | Glenn | W | Norco | CA | CHM | 1/21/1998 | 61,948
Luta | Patricia | L | Santa Rosa | CA | CHM | 2/17/2000 | 101,422
Maghloubi | Seyed | M | Pacific Palisades | CA | CHM | 8/12/2016 | 44,653
Major | David | C | Whittier | CA | CHM | 8/12/2016 | 10,982
Mannino | Guy | C | North Pole | AK | CHM | 3/1/1999 | 363,958
Manriquez JR | Antonio | M | Coachella | CA | CHM | 5/11/2005 | 99,928
Manvel | Barry | J | Napa | CA | CHM | 7/31/1998 | 40,929
Marcel | Perry | L | Alvarado | TX | DEN | 11/12/2013 | 183,246
Marcus | Alex |  | Orlando | FL | CHM | 2/10/2011 | 126,522
Marquez | Evelyn | W | Reseda | CA | CPY | 2/28/2005 | 144,902
Martin JR | John | W | Zephyrhills | FL | CHM | 1/21/1998 | 254,991
Marts | Richard | A | Los Angeles | CA | CHM | 11/12/1999 | 102,823
Mattson | James | A | Berkeley | CA | OST | 11/7/2001 | 184,684
Maxfield-Brown | Bobbi | L | Evansville | IN | CHM | 1/21/1998 | 748,733
Mays-Good | Kathryn | M | Reseda | CA | CHM | 1/21/1998 | 369,127
Mazhar | Mark |  | Los Angeles | CA | CHM | 8/11/2005 | 128,669
McAdams | Glen | R | Spring | TX | CHM | 3/1/1999 | 274,281
McAlees | Raymond | M | North Palm Beach | FL | CHM | 11/12/1999 | 254,333
McCallum III | Ronald | D | Sunnyvale | CA | CHM | 5/20/2004 | 24,007
McClure | Brian | C | Daytona Beach | FL | DEN | 1/21/1998 | 15,960
McCombs | Martin |  | Long Beach | CA | CPY | 11/12/1999 | 291,729
McConner | Sadie | B | Daytona Beach | FL | POD | 1/21/1998 | 66,781
McElhinney | Thomas | E | Saint Augustine | FL | CHM | 1/21/1998 | 1,314,339
McGee | Billie | J | Simi Valley | CA | CHM | 1/21/1998 | 139,996
McMorris | Bruce |  | Long Beach | CA | CHM | 11/12/1999 | 180,215
McRoberts | Lynne | S | Ontario Canada | FC | CHM | 1/21/1998 | 107,137
Mcatamney | John | P | Garden City | NY | CHM | 11/9/2010 | 26,988
Mcghee | Stephanie | Y | La Marque | TX | CHM | 5/19/2009 | 41,065
Mckay | Kevin | J | Dallas | TX | CHM | 11/10/2004 | 67,992
Mcmahan | Gregory | E | Anaheim | CA | DEN | 11/18/2011 | 32,026
Meade | Madeline | M | Cleveland | OH | DEN | 1/21/1998 | 75,797
Meggs | Carl | M | Belize | FC | DEN | 8/15/2003 | 114,213
Melendez | Angelina |  | Bronx | NY | POD | 5/19/2009 | 302,414
Melker | Neil | L | Princeton | NJ | DEN | 5/19/2009 | 239,751
Menezes | Michael | H | Tampa | FL | DEN | 2/10/2011 | 216,799
Mihalakis | Georgia |  | Bronx | NY | OST | 1/21/1998 | 505,900
Milanes-Scott | Barbara | J | Northridge | CA | MED | 1/21/1998 | 213,074
Milgram | Roman |  | Brooklyn | NY | DEN | 1/19/2017 | 44,694
Miller | Gaylon | D | Bixby | OK | CHM | 2/14/2012 | 95,135
Miller | Brad | T | Costa Mesa | CA | CHM | 1/21/1998 | 23,056
Miller | Bradley | G | Beverly Hills | CA | MED | 1/21/1998 | 102,590
Millon | Jeffrey | M | Lithonia | GA | MED | 1/21/1998 | 201,274
Mills | Stephen | M | Powell | OH | CHM | 3/25/2019 | 6,122
Mitchell | Warren | A | Yucaipa | CA | DEN | 8/1/2000 | 477,750
Mizell | William | L | Los Lunas | NM | OST | 8/12/2016 | 281,160
Moarefi | Mahmdud | R | Los Angeles | CA | CHM | 2/17/2000 | 74,067
Mohammadkhani | Alireza | D | Chatsworth | CA | CHM | 8/11/2005 | 55,775
Moler | Amy | M | Westerville | OH | MED | 8/22/2017 | 20,067
Moore | Scott | P | Citrus Heights | CA | CHM | 2/20/2007 | 23,364
Morita | Phuong | T | Irvine | CA | CHM | 3/1/1999 | 122,335
Moroney | William | P | Nashville | TN | CHM | 4/24/1998 | 80,072
Morrone | Mark | J | Los Angeles | CA | DEN | 7/31/1998 | 222,053
Moulds JR | Dan | R | Chattanooga | TN | DEN | 2/1/2001 | 211,036
Mouton | Marsha | E | Los Angeles | CA | MED | 1/21/1998 | 107,103
Muecke | Lee | N | Houston | TX | MED | 8/12/2016 | 1,279
Muenker | Mark | E | Hillsboro | OR | CHM | 7/31/1998 | 293,653
Mullinax | Jeffrey | S | Windsor | CA | CHM | 5/11/2005 | 27,832
Munoz | Luis | R | Chicago | IL | MED | 11/12/2013 | 617,903
Murphy | John | P | Black Earth | WI | CHM | 7/6/2012 | 35,967
Murphy | Richard | N | North Bergen | NJ | CHM | 1/21/1998 | 1,484,705
Murphy | Marc | A | Rancho Santa Margar | CA | CHM | 1/21/1998 | 159,861
Myers | Karen | A | Redondo Beach | CA | MED | 10/30/2003 | 237,719
Myers | Michael | D | San Rafael | CA | CPY | 7/6/2012 | 52,944
Nagel | Douglas |  | Herndon | VA | CHM | 8/12/2016 | 48,038
Nappi | Neil | A | West Palm Beach | FL | CHM | 3/1/1999 | 225,187
Nason | Christian | W | Holly Springs | NC | CHM | 5/18/2010 | 96,934
Navai | Mehdi | N | Alhambra | CA | CHM | 1/21/1998 | 425,026
New | Richard | A | Conway | SC | CHM | 2/14/2013 | 85,670
Newsome | Raymond | E | Desoto | TX | CHM | 11/2/2002 | 243,268
Newsome | Dorita |  | Livingston | NJ | DEN | 5/19/2009 | 71,296
Nguyen | Michael | M | Milpitas | CA | MED | 11/9/2006 | 55,331
Nguyen | Ho | H | La Puente | CA | CHM | 11/18/2011 | 147,421
Nguyen | Anh |  | Sacramento | CA | DEN | 11/18/2011 | 33,669
Nguyen | Charlene | D | La Habra | CA | CHM | 5/7/2013 | 33,786
Nguyen | Tuan | H | Fountain Valley | CA | OST | 11/12/2013 | 158,525
Nichols | Victoria | G | Encinitas | CA | CPY | 8/12/2016 | 12,196
Nieman | Edward |  | Riverside | CA | CHM | 2/1/2001 | 116,972
Ninomiya | Jesse | K | Honolulu | HI | DEN | 5/17/2001 | 165,462
Nipper-Collins | Kristie | L | Lutz | FL | OST | 2/10/2011 | 42,876
Nkuku | Christopher | N | Berkeley | IL | MED | 5/17/2001 | 73,692
Nnokam | Kennedy | I | Jasper | TX | PUB | 9/24/2014 | 64,501
Nolasco | Elizabeth | R | Brooklyn | NY | MED | 11/12/2013 | 18,258
Norville | Michael | T | Costa Mesa | CA | CHM | 1/21/1998 | 217,393
Ocon | Luis | E | Salinas | CA | CHM | 10/30/2003 | 11,590
Ofor | Chukwu | E | Houston | TX | OPT | 8/12/2016 | 45,010
Olajide | Gbolahan | A | Corona | CA | CHM | 5/19/2009 | 349,634
Olberg | Gregory | S | Hayward | CA | CHM | 3/1/1999 | 119,556
Owens | James | R | Evans | GA | CHM | 1/21/1998 | 14,967
Owens | Gregory | A | Claremore | OK | CHM | 1/21/1998 | 52,448
Pacheco | Carlos | A | McAllen | TX | MED | 9/24/2014 | 33,062
Padilla-Torres | Carlos |  | Ponce | PR | OPT | 5/31/2018 | 21,654
Palmer | Becky | A | Fallbrook | CA | CHM | 1/21/1998 | 193,936
Palmer | Richard | M | Thousand Oaks | CA | CHM | 3/1/1999 | 264,347
Palmer-Mitchell | Donna | C | Phoenix | AZ | POD | 1/21/1998 | 137,282
Pankey | John |  | Oakland | CA | CHM | 8/5/2004 | 149,617
Parkin | Dianne | E | Houston | TX | MED | 9/24/2014 | 21,440
Parsa-Forspte | Sepideh |  | San Clemente | CA | CHM | 11/18/2011 | 49,579
Patterson JR | Arthur | E | Holmdel | NJ | CHM | 9/24/2014 | 62,183
Paunovic | Susan | J | Hopewell Jct | NY | DEN | 11/2/2000 | 14,606
Payne | Patricia | D | Long Beach | CA | OPT | 11/14/2019 | 126,105
Peerenboom-Grenier | Paula | J | Viroqua | WI | CHM | 11/7/2001 | 45,212
Pehush | Marie | L | Florida | NY | CHM | 3/25/2019 | 103,633
Pellegrini | John | H | Huntington | WV | OST | 3/25/2019 | 182,098
Pennington | Bradley | R | Denver | CO | CHM | 5/31/2018 | 34,893
Perez | Daysi | E | New York | NY | CHM | 4/24/1998 | 160,784
Perkins | Daniel | R | Lahaina | HI | CHM | 2/18/2020 | 126,466
Perlmutter | Mark | A | Ann Arbor | MI | CHM | 2/23/2010 | 75,617
Perrault | Mark | D | Culver City | CA | MED | 5/19/2009 | 145,841
Perry | John | E | Houston | TX | MED | 9/24/2014 | 57,728
Petrosky | Michael | J | Mandeville | LA | CHM | 4/24/1998 | 302,618
Pham | Nghi | D | Fountain Valley | CA | CHM | 1/21/1998 | 121,540
Pham | Vinh | H | Fountain Valley | CA | DEN | 5/17/2001 | 261,559
Philipson | David |  | Huntington Beach | CA | CHM | 11/12/1999 | 182,475
Pierson | Steven | R | Minneapolis | MN | CHM | 8/17/2007 | 95,921
Pigott | Abu | G | Alameda | CA | CHM | 11/12/2013 | 82,603
Pinson | Jeffrey | R | El Paso | TX | CHM | 11/12/1999 | 119,880
Podry | Robert | J | Simi Valley | CA | CHM | 1/21/1998 | 143,407
Ponder III | Alvin | F | Brooklyn | NY | MED | 1/21/1998 | 222,633
Porter | Jacqueline | R | Washington | DC | POD | 1/21/1998 | 160,053
Potok | Leonard | A | Brooklyn | NY | DEN | 3/1/1999 | 105,181
Potts | David | A | Pasadena | TX | CHM | 9/24/2014 | 29,902
Powell | Carlton | F | Elkins Park | PA | DEN | 1/21/1998 | 145,803
Powers | Thomas | P | Oklahoma City | OK | CHM | 2/15/2002 | 3,725
Pratt | Kerrie | G | Los Angeles | CA | CHM | 7/6/2012 | 58,095
Price | Steven | V | Los Angeles | CA | DEN | 1/21/1998 | 3,931
Pritchard | Doyle | P | El Centro | CA | CHM | 11/7/2001 | 33,054
Prom | Van | S | Modesto | CA | CHM | 8/22/2017 | 73,621
Pulli | Louise | A | Green Lane | PA | CHM | 8/22/2017 | 6,042
Puryear | Cheryll | D | Houston | TX | CHM | 2/17/2000 | 207,427
Pust | Keith | W | Lake Elsinore | CA | CPY | 1/21/1998 | 127,685
Quirke | Clement |  | Venice | FL | POD | 2/8/2017 | 223,147
Radetic | Peter | M | Eagle | ID | CHM | 11/17/2009 | 98,328
Radtke | Joseph | D | Pueblo | CO | OST | 9/24/2014 | 75,960
Ramirez | Richard | R | Houston | TX | CHM | 2/28/2005 | 35,756
Ramu | Nalaya |  | Beaumont | CA | DEN | 5/14/2002 | 100,696
Rappa | Richard | J | North Haven | CT | CHM | 5/11/2005 | 69,785
Rashti | Kouros |  | Encino | CA | DEN | 5/14/2002 | 308,772
Ratliff | Cynthia |  | Aptos | CA | CHM | 2/1/2006 | 292,160
Ravinski | Deborah | G | Plymouth | MA | CHM | 8/12/2016 | 6,715
Rayas-Felix | Magdalena |  | Los Angeles | CA | CHM | 1/21/1998 | 74,196
Reddick | David | J | Miami | FL | MED | 11/14/2007 | 163,075
Reese-Thurmond | Elaine | M | Chicago | IL | MED | 1/21/1998 | 171,395
Renz | Howard | W | Astoria | NY | CHM | 1/21/1998 | 96,022
Rey | Jorge | E | Chino | CA | CHM | 2/1/2001 | 34,486
Reyes | Danniell | J | Bethlehem | PA | CHM | 7/6/2012 | 146,609
Rhine | Cecil | T | Lawrenceville | GA | CHM | 1/21/1998 | 100,245
Ribera | Alfred | R | Miami | FL | CHM | 3/1/1999 | 243,981
Rice | William | M | Malden | MA | CHM | 8/5/1999 | 188,566
Richardson | Joseph | M | Fayetteville | NC | DEN | 1/21/1998 | 793,443
Richardson | Katherine | J | Oakland | CA | CPY | 7/6/2012 | 449,026
Richichi | Mark | S | Center Moriches | NY | CHM | 2/15/2002 | 181,448
Richmond | Katherine | L | Cleveland | OH | OST | 2/18/2020 | 182,084
Ritto | Sharlene | M | Corona | CA | POD | 11/12/2013 | 263,990
Robinson | Bruce | K | Jupiter | FL | CHM | 1/21/1998 | 422,950
Robinson | Glenn | R | Dallas | TX | CHM | 3/3/2015 | 127,772
Rogers | Thomas | C | Santa Ana | CA | CHM | 3/1/1999 | 233,334
Romero | Gloriana | M | Guaynabo | PR | MED | 2/8/2017 | 133,085
Rosenfeld | Jeffre | B | Los Angeles | CA | CHM | 1/21/1998 | 126,026
Roshy | Gary | L | Lake City | FL | CHM | 1/21/1998 | 505,534
Ross | Roger | A | Coraopolis | PA | CHM | 1/21/1998 | 48,901
Rostami | Helena |  | Calabasas | CA | CHM | 5/16/2011 | 31,041
Rothman | Laura | L | Arroyo Grande | CA | CHM | 11/7/2001 | 10,734
Rubinstein | David | M | Fort Lauderdale | FL | CHM | 2/15/2002 | 68,973
Rushing | Gary | W | Matawan | NJ | CHM | 2/15/2002 | 160,183
Russell | Rosalind | L | Houston | TX | DEN | 3/11/2015 | 1,727
Russell | Robert | J | Hollywood | FL | CHM | 1/21/1998 | 10,538
Ryan | Kathleen |  | West Springfield | MA | POD | 5/19/2009 | 126,838
Saadia | Sammy |  | Brooklyn | NY | DEN | 7/30/2013 | 185,309
Sainez | Juana | A | Maryland | NY | MED | 2/2/2018 | 85,920
Sainten | Adrienne | C | San Leandro | CA | CHM | 8/26/2009 | 18,950
Saldana-Quinonez | Salvador | S | La Puente | CA | CHM | 7/6/2012 | 39,908
Sambor | David | H | Lockport | NY | DEN | 11/12/1999 | 11,706
Santa Cruz | Matthew | E | Tampa | FL | CHM | 5/19/2009 | 46,252
Sargent | John | F | Lawndale | CA | CHM | 1/21/1998 | 231,139
Sastre | Armando | A | Cortez | CO | DEN | 11/9/2010 | 107,262
Saunders | Ronald | W | San Antonio | TX | CHM | 3/25/2019 | 34,127
Savage | Robert | L | Harrisburg | PA | DEN | 5/31/2018 | 128,262
Schalk | Ronald | R | Corpus Christi | TX | CHM | 5/14/2016 | 68,612
Schiff | Barbara | S | Woodland Hills | CA | CHM | 2/17/2000 | 137,583
Schow | Kenneth | M | Glendale | CA | CHM | 1/21/1998 | 169,732
Schroder | Anthony | M | Middletown | NY | DEN | 1/21/1998 | 91,207
Schulten | Eric | A | Sarasota | FL | MED | 11/2/2000 | 219,991
Schwartz | Eric | G | Atlantic Beach | NY | DEN | 1/21/1998 | 250,250
Scruggs | Virginia | M | Seneca | SC | OST | 11/26/2012 | 71,356
Scully | Stephen | M | Redondo Beach | CA | CHM | 3/1/1999 | 52,841
Sek | Amaramony | B | Houston | TX | CHM | 8/12/2016 | 23,873
Selko | Robert | L | Morro Bay | CA | CHM | 3/1/1999 | 174,733
Sellitto | Rocco | V | Brooklyn | NY | POD | 8/1/2000 | 267,510
Senatore | Salvatore |  | Kenilworth | NJ | CHM | 11/9/2010 | 152,228
Sepahbody | Cyrus | J | Asbury Park | NJ | DEN | 5/21/2019 | 69,903
Serratos | Ernesto |  | Crestline | CA | CHM | 1/21/1998 | 134,890
Shahrestani | Shahriar |  | Anaheim | CA | CHM | 3/1/1999 | 58,190
Shanefelter III | Charles | D | San Francisco | CA | CHM | 1/21/1998 | 41,928
Shapiro | Michael | S | Newhall | CA | CHM | 1/21/1998 | 129,774
Shapley | Kevin | N | Concord | CA | CHM | 3/2/2004 | 46,084
Shaw | Michael | G | Inglewood | CA | MED | 1/21/1998 | 115,574
Shaw | Linda | J | Gladwyne | PA | DEN | 1/21/1998 | 32,687
Shear | David | S | Staten Island | NY | CHM | 1/21/1998 | 220,815
Sheehan | Alex | J | West Palm Beach | FL | CHM | 9/24/2014 | 46,255
Sheehy | Daniel | J | Middletown | CA | CHM | 2/28/2005 | 66,825
Shin | Hui-Yong |  | Los Angeles | CA | DEN | 1/21/1998 | 100,412
Shoeleh | Hossien | M | Irvine | CA | DEN | 1/21/1998 | 248,979
Siguenza | Francisco | A | Maspeth | NY | OST | 8/12/2016 | 156,147
Simon | Greg | L | Murrieta | CA | CHM | 1/21/1998 | 234,190
Simpson | Ashley | L | Allston | MA | MED | 2/10/2011 | 343,627
Slusher-Maroudas | Patricia | L | Gilroy | CA | CHM | 11/12/2013 | 11,552
Smith | Stacey | D | Malibu | CA | CHM | 8/1/2000 | 171,955
Smith | Jessica |  | Downey | CA | CHM | 1/21/1998 | 168,455
Smith | Michael | P | Santa Ana | CA | MED | 5/21/2019 | 74,489
Smith | Lee | A | Sterling | VA | CHM | 5/31/2018 | 55,737
Smith | Rusty | A | Santa Barbara | CA | CHM | 3/1/1999 | 10,083
Smith | Michael | D | Bethel Park | PA | DEN | 8/5/2004 | 414,010
Smith | George |  | Philadelphia | PA | MED | 1/19/2017 | 611,048
Smukler | Evie | L | Los Angeles | CA | CPY | 1/21/1998 | 39,520
Snavely | Danny | H | San Juan Capistrano | CA | CHM | 8/21/2015 | 324,001
Snyder | Mark | S | Roslyn | NY | CHM | 12/11/2018 | 17,306
Sokol | Louis | J | Stuart | FL | CHM | 11/12/1999 | 61,971
Sosa | Richard |  | Colton | CA | CHM | 3/1/1999 | 97,326
Soto | Vera | A | Fort Lauderdale | FL | OPT | 5/7/2008 | 20,883
Sparks | Stacey | L | Houston | TX | CHM | 11/26/2012 | 80,889
Spears | Timothy | P | Arlington | TX | CHM | 3/25/2019 | 45,258
Spicer | Mary | C | Essex Junction | VT | CHM | 7/26/2018 | 16,616
St Juste | Dominique |  | Brooklyn | NY | DEN | 8/1/2000 | 113,441
Staley | Judith | M | Annapolis | MD | CPY | 4/25/2014 | 113,566
Stalker | James | W | Castro Valley | CA | CHM | 2/10/2011 | 15,550
Stanbridge | Gary | R | Whittier | CA | CHM | 2/28/2005 | 44,121
Steder | Sandra |  | San Rafael | CA | CPY | 8/5/2004 | 82,621
Steiner | Jean Marie |  | Sunnyvale | CA | CHM | 5/15/2000 | 22,460
Steinfeld | Audrey | G | Tarzana | CA | CHM | 2/17/2000 | 267,064
Stephens | Charles | N | Milledgeville | GA | CHM | 5/19/2009 | 58,651
Stevenson | Teresa | M | Los Angeles | CA | CPY | 1/21/1998 | 150,851
Stoltz | William | D | Grants Pass | OR | CHM | 5/19/2009 | 332,700
Stone | Steven | D | San Leandro | CA | CHM | 1/21/1998 | 63,787
Street | James | F | Gainesville | GA | CHM | 11/12/2013 | 84,639
Stricklan | David | K | Haverton | PA | MED | 7/26/2018 | 204,036
Strus | Deborah | A | San Antonio | TX | MED | 11/12/2013 | 129,549
Sturgeon | David | E | Malibu | CA | DEN | 11/14/2019 | 194,991
Sullivan | Daniel | B | Fruita | CO | DEN | 5/31/2018 | 5,244
Sullivan | John | M | Corpus Christi | TX | CHM | 8/22/2017 | 124,090
Sullivan | Joseph | C | Burbank | CA | CHM | 1/21/1998 | 129,405
Sullivan | John | K | Eugene | OR | DEN | 8/15/2019 | 52,504
Taylor | Scott | M | Thousand Oaks | CA | DEN | 7/6/2012 | 179,117
Tchakalian | Leon | J | Van Nuys | CA | CHM | 11/7/2001 | 20,109
Teague | Jenette |  | Los Angeles | CA | DEN | 11/7/2001 | 151,928
Tennant | Michael | D | Wheat Ridge | CO | CHM | 11/12/1999 | 98,332
Thomas | Randy | L | Fairbanks | AK | DEN | 4/24/1998 | 236,784
Thomas | Gordon | A | Atlanta | GA | CHM | 1/21/1998 | 225,169
Thomas Sr | Robert | B | Stone Mountain | GA | DEN | 1/21/1998 | 475,572
Thompson | Emma | R | Grenada West Indies | FC | MED | 2/15/2002 | 90,259
Tierney | Richard | W | Atlanta | GA | POD | 8/5/1999 | 431,248
Tolbert JR | William |  | Los Angeles | CA | MED | 11/12/2013 | 79,172
Tomlin-Knight | Teresa | L | Manahawkin | NJ | POD | 2/11/2008 | 83,064
Toporovsky | Nathan | A | White Plains | NY | DEN | 2/8/2017 | 23,139
Townsend | Thomas | E | Fortmill | SC | CHM | 4/24/1998 | 9,498
Tramontana | Raul | E | Cincinnati | OH | OPT | 5/14/2002 | 229,941
Tran | Ngoc | H | Simi Valley | CA | CHM | 3/1/1999 | 109,356
Tran | Huong | N | Carpinteria | CA | CHM | 8/12/2016 | 65,282
Tran | Thuan | K | Henderson | NV | DEN | 8/12/2016 | 103,601
Trumbo | Traig | T | Sunland | CA | CHM | 3/1/1999 | 96,506
Tschabrun | Kevin | L | Holdrege | NE | DEN | 3/1/1999 | 122,068
Tumas | Mary | D | Brielle | NJ | CHM | 3/11/2015 | 90,256
Turner | Nancy | A | San Francisco | CA | CHM | 1/21/1998 | 25,503
Urquhart | Charles | N | Reading | PA | DEN | 11/14/2019 | 71,481
Ussery | Marvin |  | Los Angeles | CA | DEN | 8/12/2016 | 58,126
Vacula | Nicole | A | Tonawanda | NY | CPY | 8/12/2016 | 58,662
Vafaee | Mohammadali |  | Santa Monica | CA | CHM | 2/28/2005 | 24,855
Vaishvila | Gail | A | Santa Monica | CA | CHM | 8/1/2000 | 237,141
Valicenti | Patrick | J | Wallkill | NY | DEN | 8/5/2004 | 146,858
Vanrensselaer | Jeffrey | A | Lake Forest | CA | CHM | 4/24/1998 | 101,229
Vardanian | Michael | A | Fullerton | CA | CHM | 1/21/1998 | 118,149
Vega | Javier | J | Rancho Cucamonga | CA | CHM | 8/12/2016 | 53,568
Vernon | Earl | M | Davenport | IA | CHM | 1/21/1998 | 1,794
Vessels | Steven | L | Redlands | CA | CHM | 1/21/1998 | 214,219
Vessey | Ned |  | Arcadia | CA | CHM | 8/1/2000 | 69,014
Villaverde | John | J | Vestavia | AL | MED | 8/22/2017 | 76,266
Villegas | Isreal |  | Goddard | KS | CHM | 3/25/2019 | 45,503
Villeta | Javier | G | Kissimmee | FL | MED | 3/1/1999 | 341,503
Viloria-Else | Jenifer | A | North Hollywood | CA | CHM | 1/21/1998 | 187,838
Voboril JR | William | R | Carlisle | IA | POD | 8/5/1999 | 27,277
Vosburgh | Stephen | E | Lutz | FL | CHM | 1/21/1998 | 164,740
Wada | Isao | N | Oakland | CA | CHM | 7/6/2012 | 25,308
Wade | Michael | J | La Quinta | CA | OST | 5/19/2009 | 304,309
Wahdan | Buthayna | W | Jordan | FC | DEN | 3/1/1999 | 170,430
Wainwright | Mark |  | Oakland | CA | DEN | 7/6/2012 | 32,072
Walcher | Kevin | R | Booker | TX | CHM | 5/14/2002 | 107,718
Walker | Joel | W | Annapolis | MD | MED | 8/12/2016 | 57,343
Wall | Michael | J | Sandy | UT | MED | 3/3/2015 | 141,863
Wallace | Owen |  | Tonkawa | OK | CHM | 1/21/1998 | 53,743
Walsh | Richard | J | Ventura | CA | CHM | 1/21/1998 | 41,976
Walton | Teri | R | Pasadena | CA | CPY | 8/5/1999 | 189,509
Ward | Fairfield | A | Hampton | VA | DEN | 8/12/2016 | 36,946
Warner | Arthur |  | San Ramon | CA | DEN | 5/20/2004 | 133,942
Warner | Rick | A | Aurora | CO | CHM | 11/7/2001 | 110,908
Washington | George | L | Baldwyn | MS | DEN | 5/7/2013 | 589,338
Washington | Arthur | C | Houston | TX | MED | 9/24/2014 | 24,213
Washington-Houzell | Patricia | L | Lakewood | CA | POD | 8/10/2001 | 561,151
Weatherly | Darrel | F | Jacksonville | FL | OST | 5/16/2011 | 605,593
Weil | Mitchell | A | San Clemente | CA | MED | 1/21/1998 | 68,299
Weisheit-Dasylva | Lyn | D | Marietta | GA | CHM | 3/1/1999 | 59,956
Welch | Ronald | B | Sandpoint | ID | CHM | 3/1/1999 | 102,173
Westing | Denise | D | Alameda | CA | CHM | 1/21/1998 | 121,763
Whedbee | Joseph | I | Redlands | CA | DEN | 5/14/2002 | 144,015
Whigham | Gwendolyn | E | Houston | TX | CHM | 3/1/1999 | 69,018
Whipkey | Douglas | G | Jensen Beach | FL | CHM | 1/21/1998 | 139,400
Whitaker | Aaron | T | Washington | DC | DEN | 5/19/2009 | 215,511
White | Judith | U | Huntington Beach | CA | CHM | 1/21/1998 | 39,062
Whittlesey | James | B | Novato | CA | CHM | 1/21/1998 | 58,546
Williams | Pamela | A | Buena Park | CA | PUB | 1/21/1998 | 41,437
Williams | Simeon | J | Washington | DC | MED | 3/1/1999 | 114,885
Williams | Johnnie |  | Hayward | CA | MED | 3/25/2019 | 501,103
Williams | Brett | S | Los Angeles | CA | MED | 5/14/2016 | 189,694
Williams | Duane | A | Livermore | CA | CHM | 1/21/1998 | 129,743
Williams | David | L | Pasadena | CA | POD | 1/21/1998 | 96,143
Winston | Gregg | O | Pompano Beach | FL | CHM | 3/1/1999 | 208,726
Wong | Wan Sing | V | South San Francisco | CA | POD | 10/30/2003 | 207,439
Wong | Matt | S | Mountain View | CA | CHM | 11/9/2010 | 49,047
Wright-Benford | Sheila | A | Southfield | MI | POD | 2/8/2017 | 63,078
Yeates | Terrance | C | Brooklyn | NY | DEN | 1/21/1998 | 231,444
Yniguez | Alma | B | Newark | CA | CHM | 2/20/2007 | 277,157
Yoste | Joseph |  | Brownsville | TX | DEN | 8/12/2016 | 105,079
Yurick | Richard |  | Bay St Louis | MS | CHM | 11/12/2013 | 62,939
Yurkovich | Mark | R | Bentleyville | PA | CPY | 8/12/2016 | 59,379
Zaun | Timothy | M | Lakewood | OH | DEN | 1/21/1998 | 202,026
Zeitsoff-Mahar | Deborah | L | Aptos | CA | CHM | 1/21/1998 | 140,936
Zucker | Ronald | G | Long Beach | NY | CHM | 4/24/1998 | 229,163
Totals | 683 |  |  |  |  |  | 99,697,674

[FR Doc. 2020-21065 Filed 9-23-20; 8:45 am]

BILLING CODE 4000-01-P